DEPARTMENT OF AGRICULTURE

Office of the Secretary

2 CFR Subtitle B, Ch. IV

5 CFR Ch. LXXIII

7 CFR Subtitle A; Subtitle B, Chs. I-XI, XIV-XVIII, XX, XXV-XXXVIII, XLII

9 CFR Chs. I-III

36 CFR Ch. II

48 CFR Ch. 4

Semiannual Regulatory Agenda, Fall 2019

AGENCY: Office of the Secretary, USDA.

ACTION: Semiannual regulatory agenda.

SUMMARY: This agenda provides summary descriptions of the significant and not significant regulatory and deregulatory actions being developed in agencies of the U.S. Department of Agriculture (USDA) in conformance with Executive Orders (E.O.) 12866 “Regulatory Planning and Review,” 13771 “Reducing Regulation and Controlling Regulatory Costs,” 13777, “Enforcing the Regulatory Reform Agenda,” and 13563, “Improving Regulation and Regulatory Review.” The agenda also describes regulations affecting small entities as required by section 602 of the Regulatory Flexibility Act, Public Law 96-354. This agenda also identifies regulatory actions that are being reviewed in compliance with section 610(c) of the Regulatory Flexibility Act. We invite public comment on those actions as well as any regulation consistent with E.O. 13563.

USDA has attempted to list all regulations and regulatory reviews pending at the time of publication except for minor and routine or repetitive actions, but some may have been inadvertently missed. There is no legal significance to the omission of an item from this listing. Also, the dates shown for the steps of each action are estimated and are not commitments to act on or by the date shown.

USDA's complete regulatory agenda is available online at www.reginfo.gov. Because publication in the Federal Register is mandated for the regulatory flexibility agendas required by the Regulatory Flexibility Act (5 U.S.C. 602), USDA's printed agenda entries include only:

(1) Rules that are likely to have a significant economic impact on a substantial number of small entities; and

(2) Rules identified for periodic review under section 610 of the Regulatory Flexibility Act.

For this edition of the USDA regulatory agenda, the most important regulatory and deregulatory actions are summarized in a Statement of Regulatory Priorities that is included in the Regulatory Plan, which appears in both the online regulatory agenda and in part II of the Federal Register that includes the abbreviated regulatory agenda.

FOR FURTHER INFORMATION CONTACT: For further information on any specific entry shown in this agenda, please contact the person listed for that action. For general comments or inquiries about the agenda, please contact Michael Poe, Office of Budget and Program Analysis, U.S. Department of Agriculture, Washington, DC 20250, (202) 720-3257.

Dated: July 31, 2019.
Michael Poe,
Legislative and Regulatory Staff.

Agricultural Marketing Service—Proposed Rule Stage
Sequence No. | Title | Regulation Identifier No.
165 | Undue and Unreasonable Preferences and Advantages Under the Packers and Stockyards Act | 0581-AD81

Agricultural Marketing Service—Final Rule Stage
Sequence No. | Title | Regulation Identifier No.
166 | Establishment of a Domestic Hemp Production Program (Reg Plan Seq No. 1) | 0581-AD82
References in boldface appear in The Regulatory Plan in part II of this issue of the Federal Register.

Agricultural Marketing Service—Completed Actions
Sequence No. | Title | Regulation Identifier No.
167 | Establishment of a Milk Donation Program | 0581-AD87

Farm Service Agency—Completed Actions
Sequence No. | Title | Regulation Identifier No.
168 | Emergency Forest Restoration Program | 0560-AH89

Animal and Plant Health Inspection Service—Final Rule Stage
Sequence No. | Title | Regulation Identifier No.
169 | Bovine Spongiform Encephalopathy and Scrapie; Importation of Small Ruminants and Their Germplasm, Products, and Byproducts | 0579-AD10
170 | Lacey Act Implementation Plan: De Minimis Exception | 0579-AD44
171 | Brucellosis and Bovine Tuberculosis; Update of Import Provisions | 0579-AD65
172 | Importation, Interstate Movement, and Release Into the Environment of Certain Genetically Engineered Organisms (Reg Plan Seq No. 2) | 0579-AE47
References in boldface appear in The Regulatory Plan in part II of this issue of the Federal Register.

Animal and Plant Health Inspection Service—Long-Term Actions
Sequence No. | Title | Regulation Identifier No.
173 | Importation of Fresh Citrus Fruit From the Republic of South Africa Into the Continental United States | 0579-AD95
174 | Removal of Emerald Ash Borer Domestic Quarantine Regulations | 0579-AE42

Animal and Plant Health Inspection Service—Completed Actions
Sequence No. | Title | Regulation Identifier No.
175 | Plant Pest Regulations; Update of General Provisions | 0579-AC98
176 | Livestock Marketing Facilities | 0579-AE02

Forest Service—Long-Term Actions
Sequence No. | Title | Regulation Identifier No.
177 | Special Uses—Communications Uses Rent | 0596-AD43

DEPARTMENT OF AGRICULTURE (USDA)

Agricultural Marketing Service (AMS)

Proposed Rule Stage

165. Undue and Unreasonable Preferences and Advantages Under the Packers and Stockyards Act

E.O. 13771 Designation: Regulatory.

Legal Authority: Pub. L. 110-234

Abstract: This action would invite comments on proposed revisions to regulations issued under the Packers and Stockyards Act (P&S Act). The revisions would specify criteria the Secretary could consider in determining whether conduct or action by packers, swine contractors, or live poultry dealers constitutes an undue or unreasonable preference or advantage and a violation of the P&S Act.

Timetable:

Action | Date | FR Cite
NPRM | 11/00/19

Regulatory Flexibility Analysis Required: Yes.

Agency Contact: Michael V. Durando, Associate Deputy Administrator, Fair Trade Practices Program, Department of Agriculture, Agricultural Marketing Service, 1400 Independence Avenue SW, Washington, DC 20250-0237, Phone: 202 720-0219.

RIN: 0581-AD81

DEPARTMENT OF AGRICULTURE (USDA)

Agricultural Marketing Service (AMS)

Final Rule Stage

166. Establishment of a Domestic Hemp Production Program

Regulatory Plan: This entry is Seq. No. 1 in part II of this issue of the Federal Register.

RIN: 0581-AD82

DEPARTMENT OF AGRICULTURE (USDA)

Agricultural Marketing Service (AMS)

Completed Actions

167. Establishment of a Milk Donation Program

E.O. 13771 Designation: Other.

Legal Authority: Pub. L. 104-127

Abstract: This action begins the rulemaking process to establish a Milk Donation Program as mandated by the Agriculture Improvement Act of 2018 (2018 Farm Bill). The proposed program would allow milk processors who account to Federal milk marketing orders (FMMO) to claim limited reimbursements for the cost of farm milk used to make donated fluid milk products. Under the program, processors would partner with non-profit organizations to distribute the donated products to individuals in low-income groups.

Completed:

Reason | Date | FR Cite
Final Rule | 09/05/19 | 84 FR 46653
Final Rule Effective | 09/16/19 |

Regulatory Flexibility Analysis Required: Yes.

Agency Contact: Erin Taylor, Phone: 202 720-7311, Email: Erin.taylor@ams.usda.gov.

RIN: 0581-AD87

BILLING CODE 3410-02-P

DEPARTMENT OF AGRICULTURE (USDA)

Farm Service Agency (FSA)

Completed Actions

168. Emergency Forest Restoration Program

E.O. 13771 Designation:

Legal Authority: Pub. L. 110-246

Abstract: The interim rule published on November 17, 2010, added a new subpart regulations in 7 CFR part 701 to implement the Emergency Forest Restoration Program (EFRP), which was authorized by the 2008 Farm Bill. EFRP provides cost-share funding to owners of nonindustrial private forest land to restore the land after the land is damaged by a natural disaster.

Completed:

Reason | Date | FR Cite
Notice of Completion of Interim Rule | 09/10/19 | 84 FR 47405

Regulatory Flexibility Analysis Required: Yes.

Agency Contact: Deirdre Holder, Phone: 202 205-5851, Email: deirdre.holder@usda.gov.

RIN: 0560-AH89

BILLING CODE 3410-05-P

DEPARTMENT OF AGRICULTURE (USDA)

Animal and Plant Health Inspection Service (APHIS)

Final Rule Stage

169. Bovine Spongiform Encephalopathy and Scrapie; Importation of Small Ruminants and Their Germplasm, Products, and Byproducts

E.O. 13771 Designation: Deregulatory.

Legal Authority: 7 U.S.C. 450; 7 U.S.C. 1622; 7 U.S.C. 7701 to 7772; 7 U.S.C. 7781 to 7786; 7 U.S.C. 8301 to 8317; 21 U.S.C. 136 and 136a; 31 U.S.C. 9701

Abstract: We are amending the regulations governing the importation of animals and animal products to revise conditions for the importation of live sheep, goats, and certain other non-bovine ruminants, and products derived from sheep and goats, with regard to transmissible spongiform encephalopathies such as bovine spongiform encephalopathy (BSE) and scrapie. We are removing BSE-related import restrictions on sheep and goats and most of their products, and adding import restrictions related to transmissible spongiform encephalopathies for certain wild, zoological, or other non-bovine ruminant species. The conditions we are adopting for the importation of specified commodities are based on internationally accepted scientific literature and will, in general, align our regulations with guidelines established in the World Organization for Animal Health's Terrestrial Animal Health Code.

Timetable:

Action | Date | FR Cite
NPRM | 07/18/16 | 81 FR 46619
NPRM Comment Period End | 09/16/16 |
Final Rule | 02/00/20 |

Regulatory Flexibility Analysis Required: Yes.

Agency Contact: Alexandra MacKenzie, Veterinary Medical Officer, Animal Permitting and Negotiating Services, NIES, VS, Department of Agriculture, Animal and Plant Health Inspection Service, 4700 River Road, Unit 39, Riverdale, MD 20737, Phone: 301 851-3300.

RIN: 0579-AD10

170. Lacey Act Implementation Plan: De Minimis Exception

E.O. 13771 Designation: Deregulatory.

Legal Authority: 16 U.S.C. 3371 et seq.

Abstract: The Food, Conservation, and Energy Act of 2008 amended the Lacey Act to provide, among other things, that importers submit a declaration at the time of importation for certain plants and plant products. The declaration requirement of the Lacey Act became effective on December 15, 2008, and enforcement of that requirement is being phased in. We are amending the regulations to establish an exception to the declaration requirement for products containing a minimal amount of plant materials. This action would relieve the burden on importers while continuing to ensure that the declaration requirement fulfills the purposes of the Lacey Act.

Timetable:

Action | Date | FR Cite
ANPRM | 06/30/11 | 76 FR 38330
ANPRM Comment Period End | 08/29/11 |
NPRM | 07/09/18 | 83 FR 31697
NPRM Comment Period End | 09/07/18 |
Final Rule | 01/00/20 |

Regulatory Flexibility Analysis Required: Yes.

Agency Contact: Dorothy Wayson, National Program Coordinator, Lacey Act Program, Compliance and Environmental Coordination, PPQ, Department of Agriculture, Animal and Plant Health Inspection Service, 4700 River Road, Unit 150, Riverdale, MD 20737, Phone: 301 851-2036.

RIN: 0579-AD44

171. Brucellosis and Bovine Tuberculosis; Update of Import Provisions

E.O. 13771 Designation: Other.

Legal Authority: 7 U.S.C. 1622; 7 U.S.C. 8301 to 8317; 15 U.S.C. 1828; 21 U.S.C. 136 and 136a; 31 U.S.C. 9701

Abstract: We are amending the regulations governing the importation of cattle and bison with respect to bovine tuberculosis and brucellosis. The changes will make these requirements clearer and assure that they more effectively mitigate the risk of introduction of these diseases into the United States.

Timetable:

Action | Date | FR Cite
NPRM | 12/16/15 | 80 FR 78461
NPRM Comment Period End | 03/15/16 |
NPRM Comment Period Extended | 03/11/16 | 81 FR 12832
NPRM Comment Period Extended End | 05/16/16 |
NPRM—Partial Withdrawal | 03/27/19 | 84 FR 11448
Final Rule | 05/00/20 |

Regulatory Flexibility Analysis Required: Yes.

Agency Contact: Kelly Rhodes, Senior Staff Veterinarian, Regionalization Evaluation Services, VS, Department of Agriculture, Animal and Plant Health Inspection Service, 4700 River Road, Unit 38, Riverdale, MD 20737-1236, Phone: 301 851-3300.

RIN: 0579-AD65

172. Importation, Interstate Movement, and Release Into the Environment of Certain Genetically Engineered Organisms

Regulatory Plan: This entry is Seq. No. 2 in part II of this issue of the Federal Register.

RIN: 0579-AE47

DEPARTMENT OF AGRICULTURE (USDA)

Animal and Plant Health Inspection Service (APHIS)

Long-Term Actions

173. Importation of Fresh Citrus Fruit From the Republic of South Africa Into the Continental United States

E.O. 13771 Designation: Deregulatory.

Legal Authority: 7 U.S.C. 450; 7 U.S.C. 7701 to 7772; 7 U.S.C. 7781 to 7786; 21 U.S.C. 136 and 136a

Abstract: This rulemaking will amend the fruits and vegetables regulations to allow the importation of several varieties of fresh citrus fruit, as well as citrus hybrids, into the continental United States from areas in the Republic of South Africa where citrus black spot has been known to occur. As a condition of entry, the fruit will have to be produced in accordance with a systems approach that includes shipment traceability, packinghouse registration and procedures, and phytosanitary treatment. The fruit will also be required to be imported in commercial consignments and accompanied by a phytosanitary certificate issued by the national plant protection organization of the Republic of South Africa with an additional declaration confirming that the fruit has been produced in accordance with the systems approach. This action will allow for the importation of fresh citrus fruit, including citrus hybrids, from the Republic of South Africa while continuing to provide protection against the introduction of plant pests into the United States.

Timetable:

Action | Date | FR Cite
NPRM | 08/28/14 | 79 FR 51273
NPRM Comment Period End | 10/27/14 |
Next Action Undetermined

Regulatory Flexibility Analysis Required: Yes.

Agency Contact: Tony Román, Phone: 301 851-2242.

RIN: 0579-AD95

174. Removal of Emerald Ash Borer Domestic Quarantine Regulations

E.O. 13771 Designation: Deregulatory.

Legal Authority: 7 U.S.C. 7701 to 7772; 7 U.S.C. 7781 to 7786

Abstract: This rulemaking would remove the domestic quarantine regulations for the plant pest emerald ash borer. This action would discontinue the domestic regulatory component of the emerald ash borer program as a means to more effectively direct available resources toward management and containment of the pest. Funding previously allocated to the implementation and enforcement of these domestic quarantine regulations would instead be directed to a non-regulatory option of research into, and deployment of, biological control agents for emerald ash borer, which would serve as the primary tool to mitigate and control the pest.

Timetable:

Action | Date | FR Cite
NPRM | 09/19/18 | 83 FR 47310
NPRM Comment Period End | 11/19/18 |
Next Action Undetermined

Regulatory Flexibility Analysis Required: Yes.

Agency Contact: Robyn Rose, Phone: 301 851-2283.

RIN: 0579-AE42

DEPARTMENT OF AGRICULTURE (USDA)

Animal and Plant Health Inspection Service (APHIS)

Completed Actions

175. Plant Pest Regulations; Update of General Provisions

E.O. 13771 Designation: Deregulatory.

Legal Authority: 7 U.S.C. 450; 7 U.S.C. 2260; 7 U.S.C. 7701 to 7772; 7 U.S.C. 7781 to 7786; 7 U.S.C. 8301 to 8817; 21 U.S.C. 111; 21 U.S.C. 114a; 21 U.S.C. 136 and 136a; 31 U.S.C. 9701; 42 U.S.C. 4331 and 4332

Abstract: We are revising our regulations regarding the movement of plant pests. We are also adding criteria to the regulations for the importation, interstate movement, and release of biological control organisms. This final rule also establishes regulations to allow the interstate movement of certain plant pests and biological control organisms without restriction by granting exceptions from permit requirements for those pests and organisms. Finally, we are revising our regulations regarding the importation and interstate movement of soil. This rule clarifies the points that we will consider when assessing the risks associated with the movement and release of certain organisms and facilitates the movement of regulated organisms and articles in a manner that protects U.S. agriculture.

Completed:

Reason | Date | FR Cite
Final Rule | 06/25/19 | 84 FR 29938
Final Rule Effective | 08/09/19 |

Regulatory Flexibility Analysis Required: Yes.

Agency Contact: Colin Stewart, Phone: 301 851-2237.

RIN: 0579-AC98

176. Livestock Marketing Facilities

E.O. 13771 Designation: Deregulatory.

Legal Authority: 7 U.S.C. 8301 to 8317

Abstract: We are proposing to amend the regulations governing approval of facilities that receive livestock moved in interstate commerce. We are also proposing several amendments to the conditions under which livestock may move to such facilities without official identification or prior issuance of an interstate certificate of veterinary inspection or alternative documentation. These changes are necessary to update the regulations governing livestock marketing facilities, while also helping ensure animal disease traceability of livestock that are moved in interstate commerce to such facilities.

Completed:

Reason | Date | FR Cite
Withdrawn | 09/10/19 | 84 FR 47443

Regulatory Flexibility Analysis Required: Yes.

Agency Contact: Neil Hammerschmidt, Phone: 301 851-3539.

RIN: 0579-AE02

BILLING CODE 3410-34-P

DEPARTMENT OF AGRICULTURE (USDA)

Forest Service (FS)

Long-Term Actions

177. • Special Uses—Communications Uses Rent

E.O. 13771 Designation: Regulatory.

Legal Authority: 43 U.S.C. 1761 to 1771

Abstract: Consistent with the requirement in title V, section 504(g) of the Federal Land Policy and Management Act, the proposed rule would update the Forest Service's rental fee schedule for communications uses based on fair market value. Updated rental fees that exceed 100 percent of current rental fees would be phased in over a 3-year period.

Timetable:

Action | Date | FR Cite
NPRM | To Be Determined

Regulatory Flexibility Analysis Required: Yes.

Agency Contact: Edwina Howard-Agu, Regulatory Analyst, Department of Agriculture, Forest Service, 1400 Independence Avenue SW, Washington, DC 20250-0003, Phone: 202 205-1419, Email: ehowardagu@fs.fed.us.

RIN: 0596-AD43

[FR Doc. 2019-26534 Filed 12-23-19; 8:45 am]

BILLING CODE 3410-18-P